TENNESSEE VALLEY AUTHORITY

18 CFR Part 1301

Revision of Tennessee Valley Authority Freedom of Information Act Regulations

AGENCY: Tennessee Valley Authority (TVA).

ACTION: Final rule.

SUMMARY: The Tennessee Valley Authority is amending its Freedom of Information Act (FOIA) regulations to reflect a change in the cut-off date for determining which records are responsive to a request.

EFFECTIVE DATE: January 30, 2003.

FOR FURTHER INFORMATION CONTACT: Denise Smith, FOIA Officer, Tennessee Valley Authority, 400 W. Summit Hill Drive (ET 5D), Knoxville, Tennessee 37902-1499, telephone number (865) 632-6945.

SUPPLEMENTARY INFORMATION: This rule was not published in proposed form since it relates to agency procedure and practice. Since this rule is nonsubstantive, it is being made effective January 30, 2003.

List of Subjects in 18 CFR Part 1301

Freedom of Information, Government in the Sunshine, Privacy

For the reasons stated in the preamble, TVA amends 18 CFR part 1301 as follows:

PART 1301—PROCEDURES

1. The authority citation for part 1301, Subpart A, continues to read as follows:

Authority: 16 U.S.C. 831-831ee, 5 U.S.C. 552.

2. In § 1301.4, revise paragraph (a) to read as follows:

§ 1301.4 Responsibility for responding to requests.

(a) TVA's FOIA Officer, or the FOIA Officer's designee, is responsible for responding to all FOIA requests. In determining which records are responsive to a request, TVA will ordinarily include only records in its possession as of the date it begins its search for them. If any other date is used, the FOIA Officer shall inform the requester of that date.

* * * * *

Tracy S. Williams,
Vice President, External Communications, Tennessee Valley Authority.

[FR Doc. 03-2178 Filed 1-29-03; 8:45 am]

BILLING CODE 8120-08-M